DEPARTMENT OF HOUSING AND URBAN DEVELOPMENT

[Docket No. 4817-N-21]

Notice of Proposed Information Collection for Public Comment for Housing Choice Voucher (HCV) Family Self-Sufficiency (FSS) Program Coordinator Funding Application Form

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: January 30, 2004.

ADDRESSES: Interested persons are invited to submit comments regarding this proposal. Comments should refer to the proposal by name and/or OMB Control Number and should be sent to: Mildred M. Hamman, Reports Liaison Officer, Public and Indian Housing, Department of Housing & Urban Development, 451—7th Street, SW, Room 4255, Washington, DC 20410-5000.

FOR FURTHER INFORMATION CONTACT: Mildred M. Hamman, (202) 708-0614, extension 4128. (This is not a toll-free number). For hearing- and speech-impaired persons, this telephone number may be accessed via TTY (Text telephone) by calling the Federal Information Relay Services at 1-800-877-8339 (toll-free).

SUPPLEMENTARY INFORMATION: The Department will submit the proposed information collection to OMB for review, as required by the Paperwork Reduction Act of 1995 (44 U.S.C. Chapter 35, as amended).

The purpose of the Housing Choice Voucher FSS program is to promote the development of local strategies to coordinate the use of assistance under the Housing Choice Voucher program with public and private resources to enable participating families to achieve economic independence and self-sufficiency. As a result of their participation in the FSS program, many families have achieved stable, well-paid employment, which has made it possible for them to become homeowners. An FSS program coordinator assures that program participants are linked to supportive services they need to achieve self-sufficiency. Eligible Public Housing Agencies (PHAs) can apply for Housing Choice Voucher FSS Program Coordinator funding.

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also lists the following information:

Title of Proposal: Housing Choice Voucher (HCV) Family Self-Sufficiency (FSS) Program Coordinators Funding Application Form.

OMB Control Number: 2577-0178.

Description of the Need for the Information and Proposed Use: HUD will announce the availability of funds to employ program coordinators for the Housing Choice Voucher FSS program. Eligible applicants, Public Housing Agencies (PHAs), will complete and submit the funding form to HUD providing general information about the PHA. For renewal HCV FSS PHAs, the application funding form requests program status and accomplishments, and funding/positions requested. For new HCV FSS PHA applicants, the application funding form requests FSS Action Plan information and position/salaries requested. HUD will use the following form information to determine which applicants will receive HCV FSS Coordinator funding.

Agency form numbers: (To be assigned).

Members of the Affected Public: State, Local or Tribal Governments.

Estimation including the Total Number of Hours Needed to Prepare the Information Collection for the Number of Respondents, Frequency of response, and hours of response: 800 applicants, annually, one response per applicant, 45 minutes per response, 600 total burden hours.

Status of the Proposed Information Collection: Revision.

Authority: Section 3506 of the Paperwork Reduction Act of 1995, as amended.

Dated: December 19, 2003.
Michael Liu,
Assistance Secretary for Public and Indian Housing.

[FR Doc. 03-32022 Filed 12-30-03; 8:45 am]

BILLING CODE 4210-72-M